DEPARTMENT OF HEALTH AND HUMAN SERVICES

National Institutes of Health

Prospective Grant of Exclusive License: Development of Therapeutics To Treat Brain Injury and Neurodegenerative Disease

AGENCY: National Institute of Diabetes and Digestive and Kidney Diseases, National Institutes of Health, Public Health Service, DHHS.

ACTION: Notice.

SUMMARY: This notice, in accordance with 35 U.S.C. 209(c)(1) and 37 CFR part 404.7, that the National Institute of Diabetes and Digestive and Kidney Diseases, National Institutes of Health, Department of Health and Human Services, is contemplating the grant of an exclusive patent license to Astrocyte Pharmaceuticals, Inc., (“Astrocyte”), a company incorporated under the laws of Delaware and having an office in Cambridge, Massachusetts, to practice the following inventions embodied in the following patent applications: US Provisional Patent Appl. No. 60/176,373 entitled, “Methanocarba cycloalkyl nucleoside analogues,” filed 14 Jan 2000 [HHS reference E-176-1999/0-US-01]; Intl. Appl. No. PCT/US01/00981, entitled, “Methanocarba cycloalkyl nucleoside analogues,” filed 12 Jan 2001 [HHS reference E-176-1999/0-PCT-02]; Australia Patent No. 2001230913, issued 13 Oct 2005 [HHS reference E-176-1999/0-AU-03]; Canada Patent No. 2.397,366, issued 15 Mar 2011 [HHS reference E-176-1999/0-CA-04]; European Patent Appl. No. 01903043.6 entitled, filed 12 Jan 2001 [HHS Ref No E-176-1999/0-EP-05]; US Patent No. 7,087,589, issued 8 Aug 2006 [HHS reference E-176-1999/0-US-06]; US patent No. 7,790,735, issued 8 Aug 2006 [HHS reference E-176-1999/0-US-07]; and Great Britain patent No. 1252160, issued 16 Aug 2006 [HHS reference E-176-1999/0-US-08]. The patent rights in these inventions have been assigned to the United States of America. The territories included in this license may be worldwide. The field of use may be related to “Use of the patent rights in the development and sale of therapeutics for cerebral trauma, stroke, and neurodegenerative disorders.”

DATES: Only written comments or applications for a license (or both) which are received by the Technology Advancement Office of the National Institute of Diabetes and Digestive and Kidney Diseases (NIDDK) on or before November 20, 2015 will be considered.

ADDRESSES: Requests for copies of the patent application, patents, inquiries, comments, and other materials relating to the contemplated exclusive license should be directed to: Patrick McCue, Ph.D., Senior Licensing and Patenting Manager, Technology Advancement Office, The National Institute of Diabetes and Digestive and Kidney Diseases, 12A South Drive, Bethesda, MD 20892, Telephone: (301) 435-5560; Email: patrick.mccue@nih.gov. A signed confidentiality non-disclosure agreement will be required to receive copies of any patent applications that have not been published by the United States Patent and Trademark Office or the World Intellectual Property Organization.

SUPPLEMENTARY INFORMATION:

The technology provides novel nucleoside and nucleotide derivatives that are agonist or antagonists of P1 and P2 receptors and may be useful in the treatment or prevention of various diseases including airway diseases, cancer, cardiac arrhythmias, cardiac ischemia, epilepsy, and Huntington's Disease.

The prospective exclusive license will be royalty bearing and will comply with the terms and conditions of 35 U.S.C. 209 and 37 CFR part 404. The prospective exclusive license may be granted unless within fifteen (15) days from the date of this published notice, the NIDDK receives written evidence and argument that establishes that the grant of the license would not be consistent with the requirements of 35 U.S.C. 209 and 37 CFR part 404.

Properly filed competing applications for a license received by the NIDDK in response to this notice will be treated as objections to the contemplated license. Comments and objections submitted in response to this notice will not be made available for public inspection and, to the extent permitted by law, will not be released under the Freedom of Information Act, 5 U.S.C. 552.

Dated: October 30, 2015.
Anna Z. Amar,
Acting Deputy Director, Technology Advancement Office, National Institute of Diabetes and Digestive and Kidney Diseases, National Institutes of Health.

[FR Doc. 2015-28245 Filed 11-4-15; 8:45 am]

BILLING CODE 4140-01-P